DEPARTMENT OF TRANSPORTATION

Federal Transit Administration

Fiscal Year 2015 and 2016 Passenger Ferry Grant Program Project Selections

AGENCY: Federal Transit Administration, Department of Transportation.

ACTION: Passenger Ferry Grant Program announcement of project selections.

SUMMARY: The US. Department of Transportation's (DOT) Federal Transit Administration (FTA) announces the selection of projects with Fiscal Year (FY) 2015 and FY 2016 appropriations for the Passenger Ferry Grant Program (Ferry Program), 49 U.S.C. 5307(h), as authorized by the Moving Ahead for Progress in the 21st Century Act (MAP-21) and the Fixing America's Surface Transportation Act (FAST) Act. MAP-21 authorized $30 million for discretionary allocations in FY 2015 and the FAST Act authorized $30 million for discretionary allocations in FY 2016. Both amounts combined provide a total of $60 million for this program. On August 3, 2015, FTA published a Notice of Funding Availability (NOFA) (80 FR 46093) announcing the availability of Federal funding for the Ferry Program. These program funds will provide financial assistance to support existing ferry service, establish new ferry service, and repair and modernize ferry boats, terminals, and related facilities and equipment. Funds may not be used for operating expenses, planning, or preventive maintenance.

FOR FURTHER INFORMATION CONTACT: Successful applicants should contact the appropriate FTA Regional Office for information regarding applying for the funds or program-specific information. A list of Regional Offices can be found at www.fta.dot.gov. Unsuccessful applicants may contact Vanessa Williams, Office of Program Management at (202) 366-4818, email: Vanessa.williams@dot.gov, to arrange a proposal debriefing within 30 days of this announcement. A TDD is available at 1-800-877-8339 (TDD/FIRS).

SUPPLEMENTARY INFORMATION: In response to the NOFA, FTA received 21 proposals from 10 states and the U.S. Virgin Islands requesting $98.1 million in Federal funds, indicating significant demand to fund ferry capital projects. Project proposals were evaluated based on each applicant's responsiveness to the program evaluation criteria outlined in the NOFA. FTA is funding 18 projects as shown in Table 1 for a total of $58,974,323 million. Grantees selected for competitive discretionary funding should work with their FTA Regional Office to finalize the grant application in FTA's Transit Award Management System (TrAMs) for the projects identified in the attached table to quickly obligate funds. Grant applications must only include eligible activities applied for in the original project application. Funds must be used consistent with the competitive proposal and for the eligible capital purposes established in the NOFA and described in the FTA's Urbanized Area Formula Program Circular 9030.1E. In cases where the allocation amount is less than the proposer's requested amount, grantees should work with the Regional Office to reduce scope or scale the project such that a complete phase or project is accomplished. Grantees are reminded that program requirements such as cost sharing or local match can be found in the NOFA. A discretionary project identification number has been assigned to each project for tracking purposes and must be used in the TrAMs application. Selected projects are eligible for pre-award authority no earlier than April 14, 2016. Pre-award authority is also contingent upon other requirements, such as planning and environmental requirements, having been met. For more about FTA's policy on pre-award authority, please see the FTA Fiscal Year 2016 Apportionments, Allocations, and Program Information and Interim Guidance found in 81 FR 7893 (February 16, 2016). Post-award reporting requirements include submission of the Federal Financial Report and Milestone progress reports in TrAMs. The grantees must comply with all applicable Federal statutes, regulations, executive orders, FTA circulars, and other Federal requirements in carrying out the project supported by the FTA grant. FTA emphasizes that grantees must follow all third-party procurement guidance, as described in FTA.C.4220.1F Third Party Contracting Guidance. Funds allocated in this announcement must be obligated in a grant by September 30, 2021.

Carolyn Flowers,
Acting Administrator.

[FR Doc. 2016-12143 Filed 5-20-16; 8:45 am]

BILLING CODE P